DEPARTMENT OF COMMERCE

International Trade Administration

[A-588-838]

Clad Steel Plate from Japan: Final Results of the Expedited Third Sunset Review of the Antidumping Duty Order

AGENCY: Import Administration, International Trade Administration, Department of Commerce.

SUMMARY: On February 1, 2012, the Department of Commerce (the Department) initiated the third sunset review of the antidumping duty order on clad steel plate from Japan, pursuant to section 751(c) of the Tariff Act of 1930, as amended (the Act). On the basis of a notice of intent to participate on behalf of the domestic interested party, and no response from respondent interested parties, the Department conducted an expedited (120-day) sunset review for this order pursuant to 19 CFR 351.218(e)(1)(ii)(C)(2). As a result of this sunset review, the Department finds that revocation of the antidumping duty order would be likely to lead to the continuation or recurrence of dumping.

DATES: Effective Date: May 30, 2012.

FOR FURTHER INFORMATION CONTACT: David Crespo, AD/CVD Operations, Office 2, Import Administration, International Trade Administration, U.S. Department of Commerce, 14th Street and Constitution Avenue NW., Washington, DC 20230; telephone: (202) 482-3693.

SUPPLEMENTARY INFORMATION:

Background

On February 1, 2012, the Department published the notice of initiation of the third sunset review of the antidumping duty order on clad steel plate from Japan pursuant to section 751(c) of the Act. See Initiation of Five-Year (Sunset) Review, 77 FR 4995 (Feb. 1, 2012) (Notice of Initiation).

On February 15, 2012, the Department received a notice of intent to participate from ArcelorMittal USA, LLC (AMUSA), a domestic interested party, within the deadline specified in 19 CFR 351.218(d)(1)(i). The company claimed interested party status under section 771(9)(C) of the Act as a U.S. producer of clad steel plate in the United States.

The Department received an adequate substantive response to the notice of initiation from AMUSA within the 30-day deadline specified in 19 CFR 351.218(d)(3)(i). We received no substantive responses from respondent interested parties with respect to the order covered by this sunset review. As a result, pursuant to 19 CFR 351.218(e)(1)(ii)(C)(2), the Department conducted an expedited (120-day) sunset review of the antidumping duty order on clad steel plate from Japan.

Scope of the Order

The scope of the order is all clad ¹ steel plate of a width of 600 millimeters (mm) or more and a composite thickness of 4.5 mm or more. Clad steel plate is a rectangular finished steel mill product consisting of a layer of cladding material (usually stainless steel or nickel) which is metallurgically bonded to a base or backing of ferrous metal (usually carbon or low alloy steel) where the latter predominates by weight.

¹ Cladding is the association of layers of metals of different colors or natures by molecular interpenetration of the surfaces in contact. This limited diffusion is characteristic of clad products and differentiates them from products metalized in other manners (e.g., by normal electroplating). The various cladding processes include pouring molten cladding metal onto the basic metal followed by rolling; simple hot-rolling of the cladding metal to ensure efficient welding to the basic metal; any other method of deposition of superimposing of the cladding metal followed by any mechanical or thermal process to ensure welding (e.g., electrocladding), in which the cladding metal (nickel, chromium, etc.) is applied to the basic metal by electroplating, molecular interpenetration of the surfaces in contact then being obtained by heat treatment at the appropriate temperature with subsequent cold rolling. See Harmonized Commodity Description and Coding System Explanatory Notes, Chapter 72, General Note (IV)(C)(2)(e).

Stainless clad steel plate is manufactured to American Society for Testing and Materials (ASTM) specifications A263 (400 series stainless types) and A264 (300 series stainless types). Nickel and nickel-base alloy clad steel plate is manufactured to ASTM specification A265. These specifications are illustrative but not necessarily all-inclusive.

Clad steel plate within the scope of the order is classifiable under the Harmonized Tariff Schedule of the United States (HTSUS) 7210.90.10.00. Although the HTSUS subheading is provided for convenience and customs purposes, our written description of the scope of the order is dispositive.

Analysis of Comments Received

All issues raised in this review are addressed in the Memorandum from Christian Marsh, Deputy Assistant Secretary for Antidumping and Countervailing Duty Operations, to Paul Piquado, Assistant Secretary for Import Administration, entitled, “Issues and Decision Memorandum for the Expedited Third Sunset Review of the Antidumping Duty Order on Clad Steel Plate from Japan,” dated May 31, 2012 (Decision Memo), which is hereby adopted by this notice. The issues discussed in the Decision Memo include the likelihood of continuation or recurrence of dumping and the magnitude of the dumping margin likely to prevail if the order were revoked. Parties can find a complete discussion of all issues raised in this review and the corresponding recommendations in this public memorandum which is on file electronically via IA ACCESS in the Central Records Unit, Room 7046, of the main Department of Commerce building.

In addition, a complete version of the Decision Memo can be accessed directly on the Web at http://ia.ita.doc.gov/frn. The paper copy and electronic versions of the Decision Memo are identical in content.

Final Results of Review

We determine that revocation of the antidumping duty order on clad steel plate from Japan would be likely to lead to the continuation or recurrence of dumping at the following weighted-average dumping margins: ²

² The Department assigned this margin of 118.53 percent in the less than fair value investigation on the basis of total adverse facts available using the rate contained in the petition. See Notice of Final Determination of Sales at Less Than Fair Value: Clad Steel Plate From Japan, 61 FR 21158, 21159 (May 9, 1996).

Manufacturers/Exporters/Producers | Weighted-average dumping margin (percent)
The Japan Steel Company | 118.53
All Others | 118.53

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: May 22, 2012.
Paul Piquado,
Assistant Secretary for Import Administration.

[FR Doc. 2012-13103 Filed 5-29-12; 8:45 am]

BILLING CODE 3510-DS-P